DEPARTMENT OF ENERGY

Federal Energy Regulatory Commission

Combined Notice of Filings #1

Take notice that the Commission received the following exempt wholesale generator filings:

Docket Numbers: EG19-183-000.

Applicants: Airport Solar LLC.

Description: Notice of Self-Certification of Exempt Wholesale Generator Status of Airport Solar LLC.

Filed Date: 9/17/19.

Accession Number: 20190917-5065.

Comments Due: 5 p.m. ET 10/8/19.

Docket Numbers: EG19-184-000.

Applicants: Heart of Texas Wind, LLC.

Description: Notice of Self-Certification of Exempt Wholesale Generator Status of Heart of Texas Wind, LLC.

Filed Date: 9/17/19.

Accession Number: 20190917-5069.

Comments Due: 5 p.m. ET 10/8/19.

Docket Numbers: EG19-185-000.

Applicants: Isabella Wind, LLC.

Description: Self-Certification of Exempt Wholesale Generator Status of Isabella Wind, LLC.

Filed Date: 9/17/19.

Accession Number: 20190917-5073.

Comments Due: 5 p.m. ET 10/8/19.

Take notice that the Commission received the following electric rate filings:

Docket Numbers: ER19-1928-002.

Applicants: Southwest Power Pool, Inc.

Description: Tariff Amendment: 3290R2 Sholes Wind GIA—Amended Filing to be effective 4/25/2019.

Filed Date: 9/16/19.

Accession Number: 20190916-5132.

Comments Due: 5 p.m. ET 10/7/19.

Docket Numbers: ER19-2446-002.

Applicants: Midcontinent Independent System Operator, Inc.

Description: Tariff Amendment: 2019-09-17_SA 3332, Southern Indiana Gas & Electric-OSER 2nd Sub GIA (J783) to be effective 7/10/2019.

Filed Date: 9/17/19.

Accession Number: 20190917-5094.

Comments Due: 5 p.m. ET 10/8/19.

Docket Numbers: ER19-2448-000.

Applicants: Midcontinent Independent System Operator, Inc., MidAmerican Energy Company.

Description: Supplement to July 24, 2019, Midcontinent Independent System Operator, Inc. tariff filing (Replacement Tab C ? Revised Exhibit B).

Filed Date: 9/16/19.

Accession Number: 20190916-5182.

Comments Due: 5 p.m. ET 10/7/19.

Docket Numbers: ER19-2508-001.

Applicants: Southwest Power Pool, Inc.

Description: Tariff Amendment: 3215R6 People's Electric Cooperative NITSA NOA—Amended to be effective 7/1/2019.

Filed Date: 9/17/19.

Accession Number: 20190917-5107.

Comments Due: 5 p.m. ET 10/8/19.

Docket Numbers: ER19-2817-000.

Applicants: FirstEnergy Solutions Corp.

Description: Compliance filing: Informational Filing re Planned Transfer [original record in ER15-1510-002] to be effective N/A.

Filed Date: 9/16/19.

Accession Number: 20190916-5164.

Comments Due: 5 p.m. ET 10/7/19.

Docket Numbers: ER19-2818-000.

Applicants: Upper Missouri G. & T. Electric Cooperative, Inc.

Description: Baseline eTariff Filing: Formula Rate Filing to be effective 11/15/2019.

Filed Date: 9/16/19.

Accession Number: 20190916-5172.

Comments Due: 5 p.m. ET 10/7/19.

Docket Numbers: ER19-2819-000.

Applicants: Sierra Pacific Power Company.

Description: Initial rate filing: Service Agreement No. 19-00049 to be effective 11/16/2019.

Filed Date: 9/16/19.

Accession Number: 20190916-5173.

Comments Due: 5 p.m. ET 10/7/19.

Docket Numbers: ER19-2820-000.

Applicants: Upper Missouri G. & T. Electric Cooperative, Inc.

Description: Baseline eTariff Filing: Initial Filing of Rate Schedules FERC Nos. 1 through No. 11 to be effective 11/15/2019.

Filed Date: 9/16/19.

Accession Number: 20190916-5176.

Comments Due: 5 p.m. ET 10/7/19.

Docket Numbers: ER19-2821-000; TS19-4-000.

Applicants: Upper Missouri G. & T. Electric Cooperative, Inc.

Description: Request for Waiver of Open-Access Requirements of Order Nos. 888, et al. of Upper Missouri G. & T. Electric Cooperative, Inc.

Filed Date: 9/16/19.

Accession Number: 20190916-5185.

Comments Due: 5 p.m. ET 10/7/19.

Docket Numbers: ER19-2822-000.

Applicants: Airport Solar LLC.

Description: Baseline eTariff Filing: Application for Market-Based Rate Authority to be effective 11/1/2019.

Filed Date: 9/17/19.

Accession Number: 20190917-5063.

Comments Due: 5 p.m. ET 10/8/19.

Docket Numbers: ER19-2823-000.

Applicants: Isabella Wind, LLC.

Description: Baseline eTariff Filing: Isabella Wind, LLC MBR Application Filing to be effective 11/15/2019.

Filed Date: 9/17/19.

Accession Number: 20190917-5090.

Comments Due: 5 p.m. ET 10/8/19.

Docket Numbers: ER19-2824-000.

Applicants: Midcontinent Independent System Operator, Inc.

Description: § 205(d) Rate Filing: 2019-09-17_SA 3180 Dunns Bridge Solar-NIPSCO 1st Rev GIA (J643 J847) to be effective 8/30/2019.

Filed Date: 9/17/19.

Accession Number: 20190917-5095.

Comments Due: 5 p.m. ET 10/8/19.

Take notice that the Commission received the following electric securities filings:

Docket Numbers: ES19-54-000.

Applicants: Georgia Power Company.

Description: Application under Section 204 of the Federal Power Act for Authorization to Issue Securities of Georgia Power Company.

Filed Date: 9/17/19.

Accession Number: 20190917-5077.

Comments Due: 5 p.m. ET 10/8/19.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2019.
Nathaniel J. Davis, Sr.,
Deputy Secretary.

[FR Doc. 2019-20505 Filed 9-20-19; 8:45 am]

BILLING CODE 6717-01-P